DEPARTMENT OF ENERGY

Federal Energy Regulatory Commission

Combined Notice of Filings #1

September 25, 2018.

Take notice that the Commission received the following electric corporate filings:

Docket Numbers: EC18-161-000.

Applicants: Voyager Wind II, LLC.

Description: Joint Application for Authorization Under Section 203 of the Federal Power Act, et al. of Voyager Wind II, LLC.

Filed Date: 9/24/18.

Accession Number: 20180924-5151.

Comments Due: 5 p.m. ET 10/15/18.

Take notice that the Commission received the following electric rate filings:

Docket Numbers: ER12-162-020; ER11-2044-025; ER13-1266-017 ER15-2211-014.

Applicants: Bishop Hill Energy II LLC, CalEnergy, LLC, MidAmerican Energy Company, MidAmerican Energy Services, LLC.

Description: Notice of Non-Material Change in Status of the Berkshire Hathaway Central Parties.

Filed Date: 9/24/18.

Accession Number: 20180924-5168.

Comments Due: 5 p.m. ET 10/15/18.

Docket Numbers: ER17-2074-003.

Applicants: Burney Forest Products, A Joint Venture.

Description: Notice of Non-Material Change of Status of Burney Forest Products, A Joint Venture.

Filed Date: 9/24/18.

Accession Number: 20180924-5174.

Comments Due: 5 p.m. ET 10/15/18.

Docket Numbers: ER18-2075-002.

Applicants: Midcontinent Independent System Operator, Inc.

Description: Tariff Amendment: 2018-09-24_SA 3135 ELL-ELL GIA (J484) 2nd Sub GIA to be effective 7/13/2018.

Filed Date: 9/24/18.

Accession Number: 20180924-5123.

Comments Due: 5 p.m. ET 10/15/18.

Docket Numbers: ER18-2076-002.

Applicants: Midcontinent Independent System Operator, Inc.

Description: Tariff Amendment: 2018-09-24_SA 3136 Entergy Texas, Inc-Entergy Texas, Inc GIA (J472) 2nd Sub to be effective 7/13/2018.

Filed Date: 9/24/18.

Accession Number: 20180924-5133.

Comments Due: 5 p.m. ET 10/15/18.

Docket Numbers: ER17-2219-002.

Applicants: System Energy Resources, Inc.

Description: Compliance filing: SERI Settlement Compliance Filing to be effective 10/1/2017.

Filed Date: 9/24/18.

Accession Number: 20180924-5135.

Comments Due: 5 p.m. ET 10/15/18.

Docket Numbers: ER18-2468-000.

Applicants: Southwestern Electric Power Company.

Description: § 205(d) Rate Filing: Rayburn Revised PSA to be effective 8/1/2018.

Filed Date: 9/24/18.

Accession Number: 20180924-5118.

Comments Due: 5 p.m. ET 10/15/18.

Docket Numbers: ER18-2469-000.

Applicants: PJM Interconnection, L.L.C.

Description: § 205(d) Rate Filing: Amendment to ISA SA No. 3333; Queue No. W3-003 to be effective 6/24/2014.

Filed Date: 9/24/18.

Accession Number: 20180924-5127.

Comments Due: 5 p.m. ET 10/15/18.

Docket Numbers: ER18-2470-000.

Applicants: PJM Interconnection, L.L.C.

Description: Tariff Cancellation: Notice of Cancellation of ISA SA No. 4061; Queue No. X1-027A_AT12 to be effective 9/24/2018.

Filed Date: 9/24/18.

Accession Number: 20180924-5143.

Comments Due: 5 p.m. ET 10/15/18.

Docket Numbers: ER18-2471-000.

Applicants: PJM Interconnection, L.L.C.

Description: Tariff Cancellation: Notice of Cancellation of WMPA SA No. 2923; Queue No. W3-063 to be effective 10/15/2018.

Filed Date: 9/25/18.

Accession Number: 20180925-5000.

Comments Due: 5 p.m. ET 10/16/18.

Docket Numbers: ER18-2472-000.

Applicants: PJM Interconnection, L.L.C.

Description: Tariff Cancellation: Notice of Cancellation of WMPA SA No. 4597, Queue No. AB2-048 to be effective 10/4/2018.

Filed Date: 9/25/18.

Accession Number: 20180925-5001.

Comments Due: 5 p.m. ET 10/16/18.

Docket Numbers: ER18-2473-000.

Applicants: GridLiance West LLC.

Description: § 205(d) Rate Filing: GLW-WAPA IA to be effective 10/1/2018.

Filed Date: 9/25/18.

Accession Number: 20180925-5003.

Comments Due: 5 p.m. ET 10/16/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 25, 2018.
Nathaniel J. Davis, Sr.,
Deputy Secretary.

[FR Doc. 2018-21310 Filed 9-28-18; 8:45 am]

BILLING CODE 6717-01-P